DEPARTMENT OF HOMELAND SECURITY

Policy Directorate/Office of Strategic Plans; Quadrennial Homeland Security Report

AGENCY: Policy Directorate/Office of Strategic Plans, Department of Homeland Security.

ACTION: 30-Day Notice and request for comments; Emergency Submission to the Office of Management and Budget (OMB).

SUMMARY: The Department of Homeland Security, Policy Directorate/Office of Strategic Plans, submits the following information collection request (ICR) to the Office of Management and Budget (OMB) for review and clearance in accordance with the Paperwork Reduction Act of 1995 (Pub. L. 104-13, 44 U.S.C. Chapter 35). Policy Directorate/Office of Strategic Plans is soliciting comments concerning the Quadrennial Homeland Security Report. The purpose of this notice is to allow 30 days for public comments.

DATES: Comments are encouraged and will be accepted until July 30, 2009. This process is conducted in accordance with 5 CFR 1320.10.

ADDRESSES: Interested persons are invited to submit written comments on the proposed information collection to the Office of Information and Regulatory Affairs, Office of Management and Budget. Comments should be addressed to OMB Desk Officer, Department of Homeland Security, Office of Civil Rights and Civil Liberties, and sent via electronic mail to oira_submission@omb.eop.gov or faxed to (202) 395-5806.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: Department of Homeland Security (DHS), Policy Directorate/Office of Strategic Plans, Michael Galang, (202) 282-9118.

SUPPLEMENTARY INFORMATION: A stakeholder online collaboration platform will be created and hosted to engage homeland security stakeholders around the compelling questions produced by the QHSR study groups. The dialogue platform is based on the principle of radical scalability: The more feedback that is received, the more clearly sorted participants' preferences and priorities become. In the platform, users can submit their best ideas, refine them in open discussion, and use simple rating and tagging features to identify the most popular ideas and important overarching themes.

The platform can host multiple simultaneous dialogues, and dynamically pose new questions, so that DHS can repeatedly “pulse” participants over a three-month timeframe. All homeland security stakeholders are eligible and are invited to do so. The Web site will be public facing with self-identify and opt-in user information requested.

Participation by the public is completely voluntary. Content will be posted on the online collaboration Web site for up to five days for each collaboration event. At the conclusion of each event, comments and input will be reviewed by the study groups and incorporated as appropriate into their products. The time required by the public to provide input on content posted on the collaboration site is estimated at between one and two hours per collaboration event for a maximum of six hours over the course of the QHSR. Three online collaboration events are currently proposed (July 16-20, August 13-17, and September 17-21). The public will be notified of content postings via the DHS QHSR public Web site, http://www.dhs.gov/qhsr. Other notification options may include FedBiz notices about the scheduled online collaboration events, the DHS Public Affairs news feed, and various GSA-approved social networking media (e.g., Twitter, Facebook). Homeland security-related associations will also be asked to invite their members to participate in the online collaborations.

Participants will be asked to review developed content for those homeland security topics they are interested in. Examples of requested participant input include:

• Comment and rate phase I solicited input, thereby prioritizing those concepts and suggestions they deem critical and which should be considered by the study groups during their respective reviews.

• Comment on and rate proposed strategic objectives and key strategic outcome statements for the homeland security mission areas under review.

• Vote on proposed mission objectives and outcome statements as to whether they agree or disagree with the proposed content.

In addition to viewing the input received via public participation in the collaboration tool during and after the dialog period, the input will be sorted and disseminated to the study groups who will then incorporate the input into their deliberations and subsequent content generation as appropriate. Study group content will be posted via two collaboration events, in July and August, with final draft conclusions posted via the collaboration event in September, prior to the study groups' final reports.

Analysis:

Agency: Department of Homeland Security, Policy Directorate/Office of Strategic Plans.

Title: Quadrennial Homeland Security Report.

OMB Number: 1601-NEW.

Frequency: On occasion.

Affected Public: State, Local, Tribal, and Non-Government Stakeholders.

Number of Respondents: 50,000 respondents.

Estimated Time Per Respondent: 6 hours per respondent.

Total Burden Hours: 300,000 annual burden hours.

Total Burden Cost (capital/startup): None.

Total Burden Cost (operating/maintaining): 600,000.

Margaret Graves,
Acting Chief Information Officer.

[FR Doc. E9-15365 Filed 6-29-09; 8:45 am]

BILLING CODE 9110-9M-P